DEPARTMENT OF HEALTH AND HUMAN SERVICES

Health Resources and Services Administration

Agency Information Collection Activities: Proposed Collection: Public Comment Request; Information Collection Request Title: Healthy Start Evaluation and Quality Improvement; OMB No. 0915-0338—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than December 20, 2022.

ADDRESSES: Submit your comments to paperwork@hrsa.gov or by mail to the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the acting HRSA Information Collection Clearance Officer, at (301) 443-9094.

SUPPLEMENTARY INFORMATION: When submitting comments or requesting information, please include the information request collection title for reference.

Information Collection Request Title: Healthy Start Evaluation and Quality Improvement, OMB No. 0915-0338—Revision.

Abstract: The National Healthy Start Program, authorized by 42 U.S.C. 254c-8 (section 330H of the Public Health Service Act), and funded through HRSA's Maternal and Child Health Bureau (MCHB), has the goal to improve health outcomes before, during, and after pregnancy, and reduce racial/ethnic differences in rates of infant death and adverse perinatal outcomes. The program began as a demonstration project with 15 grantees in 1991 and has expanded since then to 101 grantees across 35 states; Puerto Rico; and Washington, DC. Healthy Start grantees operate in communities with rates of infant mortality at least 1.5 times the U.S. national average and high rates for other adverse perinatal outcomes. These communities are often low-income and located in geographically, racially, ethnically, and linguistically diverse areas. Healthy Start offers services during the perinatal period (before, during, after pregnancy) and the program works with women, men, and infants/children through the first 18 months after birth. The Healthy Start program pursues four goals: (1) improve women's health, (2) improve family health and wellness, (3) promote systems change, and (4) assure impact and effectiveness. Over the past few years, MCHB has sought to implement a uniform set of data elements for monitoring and conducting an evaluation to assess grantees' progress towards these program goals. Under the current OMB approval, the data collection instruments for the program's reporting requirements include three participant-level screening tools: (1) Background, (2) Prenatal, and (3) Parenting Information.

In this proposed revision, MCHB plans to retain the participant-level tools as approved by OMB in 2020; however, MCHB did introduce minor changes to the forms. These changes included only the following: correction of typos, addition of response options (e.g., “don't know,” “declined to answer”), and clarification of instructions. The purpose of these minor changes is to improve the quality of the instruments and make it easier for the respondents to complete the forms. The improved instructions should reduce confusion in completing the forms. Adding additional response options will eliminate forced responses that do not represent the participant's intent and will increase response accuracy.

Need and Proposed Use of the Information: The purpose of the revised data collection instruments will be to assess grantee and participant-level progress towards meeting Healthy Start program performance measures. The data will be used to conduct ongoing performance monitoring of the program, thus meeting program needs for accountability, programmatic decision-making, and ongoing quality assurance.

Likely Respondents: For the General Background, Prenatal, and Parenting Information participant-level forms, respondents include pregnant women, women of reproductive age, and men who are served by the Healthy Start program.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel to be able to respond to a collection of information; to search data sources; to complete and review the collection of information; and to transmit or otherwise disclose the information. The total annual burden hours estimated for this ICR are summarized in the table below.

Total Estimated Annualized Burden Hours:

Form name | Number of respondents | Number of responses per respondent | Total responses | Average burden per response (in hours) | Total burden hours
General Background Form | *45,700 | 1 | 45,700 | .30 | 13,710
Prenatal | *30,300 | 1 | 30,300 | .10 | 3,030
Parenting | *30,300 | 1 | 30,300 | .25 | 7,575
Total | 106,300 |  | 106,300 |  | 24,315
*All adult participants (45,700) complete the General Background form, and a subset of these same individuals (30,300) also complete the Prenatal or Parenting forms for total of 106,300 responses.

HRSA specifically requests comments on (1) the necessity and utility of the proposed information collection for the proper performance of the agency's functions, (2) the accuracy of the estimated burden, (3) ways to enhance the quality and utility of the information to be collected, and (4) the use of automated collection techniques or other forms of information technology to minimize the information collection burden.

Maria G. Button,
Director, Executive Secretariat.

[FR Doc. 2022-22863 Filed 10-20-22; 8:45 am]

BILLING CODE 4165-15-P